DEPARTMENT OF THE INTERIOR

National Park Service

Notice of Availability of a Record of Decision on the Final Environmental Impact Statement for the General Management Plan, Coronado National Memorial

AGENCY: National Park Service, Department of the Interior.

ACTION: Notice of availability.

SUMMARY: Pursuant to section 102(2)(C) of the National Environmental Policy Act of 1969, Public Law 91-190, 83 Stat. 852, 853, codified as amended at 42 U.S.C. 4332(2)(C), the National Park Service announces the availability of the Record of Decision for the General Management Plan/Environmental Impact Statement for Coronado National Memorial, Arizona. On May 28, 2004, the Director, Intermountain Region approved the Record of Decision for the project. As soon as practical, the National Park Service will begin to implement the General Management Plan, described as the Preferred Alternative contained in the FEIS issued on April 16, 2004. In the preferred alternative, the visitor center will be rehabilitated and updated interpretation offered. The Montezuma Ranch area will be restored to natural contours and revegetated with native species. The abandoned powerline along the road to Montezuma Pass will be removed and revegetated with native species. Grazing in the national memorial will be discontinued. An annex will be built behind the visitor center containing additional office and storage space, along with a multipurpose room. Additional pullouts and waysides will be developed along the main road as well as trails in the memorial's grasslands. A new group picnic area will be developed. The visitor shelter at Montezuma Pass will be converted into a minimal contact station. A new four-unit structure might be added to house temporary employees. The park will work toward creating an offsite cultural festival to celebrate various cultures associated with the memorial, emphasizing the historical aspects of the Coronado Expedition. The park staff will promote special events highlighting the Coronado Expedition, its legacy, and its impact of the present American Southwest. This course of action and four alternatives were analyzed in the Draft and Final Environmental Impact Statements. The full range of foreseeable environmental consequences were assessed, and appropriate mitigating measures identified.

The full Record of Decision includes a statement of the decision made, synopses of other alternatives considered, the basis for the decision, a description of the environmentally preferable alternative, a finding on impairment of park resources and values, a listing of measures to minimize environmental harm, and an overview of public involvement in the decision-making process.

Basis for Decision

In reaching its decision to select the preferred alternative, the National Park Service considered the purposes for which Coronado National Memorial was established, and other laws and policies that apply to lands in the memorial, including the Organic Act, National Environmental Policy Act, and the NPS Management Policies. The National Park Service also carefully considered public comments received during the planning process. To develop a preliminary preferred alternative, the planning team evaluated the alternatives that had been reviewed by the public. To minimize the influence of individual biases and opinions, the team used an objective analysis process called “Choosing by Advantages.” This process has been used extensively by government agencies and the private sector. The following conclusions were reached:

• Alternative B will best safeguard the resources and scenic values of Coronado National memorial while making those resources easily accessible for visitors.

• Alternative B best preserves the park's cultural landscapes through application of management zones that provide for a better understanding and appreciation of the park's cultural landscapes by limited future development away from areas that contain cultural landscapes.

• Alternative B will maintain the archeological and historic integrity of the park by providing better protection of the cultural resources through ending the impacts of grazing on these resources.

• Alternative B will enhance the visitor's experience by providing multiple opportunities for visitors to make intellectual and emotional connections to the park by development of more interpretive materials and programs onsite and supporting offsite festivals and programs that emphasize the historical aspects of the Coronado Expedition.

Overall, alternative B received the highest score and was adopted as the preferred alternative.

Findings on Impairment

The NPS has determined that implementation of the proposal will not constitute an impairment to Coronado National Memorial's resources and values. This conclusion is based on a thorough analysis of the environmental impacts described in the EIS, the public comments received, relevant scientific studies, and the professional judgement of the decision-maker guided by the direction in the NPS Management Policies (December 27, 2000). Overall, the plan results in benefits to park resources and values, opportunities for their enjoyment, and it does not result in their impairment.

FOR FURTHER INFORMATION CONTACT: Dale Thompson, Coronado National Memorial, 4101 East Montezuma Canyon Road, Hereford, AZ 85615, 520-366-5515, DaleThompson@nps.gov.

SUPPLEMENTARY INFORMATION: Copies of the Record of Decision may be obtained from the contact listed above.

Dated: May 28, 2004.
Stephen P. Martin,
Director, Intermountain Region, National Park Service.

[FR Doc. 04-17585 Filed 8-2-04; 8:45 am]

BILLING CODE 4312-DP-P